ENVIRONMENTAL PROTECTION AGENCY

[OPP-2005-0233; FRL-7731-9]

Full Tribal Pesticide Program Council (TPPC); Notice of Public Meeting

AGENCY: Environmental Protection Agency (EPA).

ACTION: Notice.

SUMMARY: The Tribal Pesticide Program Council (TPPC) will hold a 2½-day meeting, beginning on September 13 and ending on September 15, 2005. This notice announces the location and times for the meeting, and sets forth the tentative agenda topics. One Tribal Caucus is scheduled each day.

DATES: The meeting will be held on September 13 and 14, 2005, from 8 a.m. to 5 p.m. and half day on September 15, 2005.

ADDRESSES: The meeting will be held at Ute Mountain Casino Hotel and Resort, 3 Weeminuche Drive at Yellow Hat, Towaoc, CO 81334. Telephone: (800) 258-8007.

FOR FURTHER INFORMATION CONTACT: Georgia McDuffie, Field and External Affairs Division (7506C), Office of Pesticide Programs, Environmental Protection Agency, 1200 Pennsylvania Ave., NW., Washington, DC 20460-0001; telephone number: (703) 605-0195; fax number: (703) 308-1850; e-mail address: duffie.georgia@epa.gov or

Lillian Wilmore, TPPC Facilitator, P.O. Box 470829, Brookline Village, MA 02447-0829; telephone number: (617) 232-5742; fax (617) 277-1656; e-mail address:naecology@aol.com.

SUPPLEMENTARY INFORMATION:

I. General Information

A. Does this Action Apply to Me?

You may be potentially affected by this action if you are interested in TPPC's information exchange relationship with EPA regarding important issues related to human health, environmental exposure to pesticides, and insight into EPA's decision-making process. All parties are invited and encouraged to attend the meetings and participate as appropriate. Potentially affected entities may include, but are not limited to those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult either person listed under FOR FURTHER INFORMATION CONTACT.

B. How Can I Get Copies of this Document and Other Related Information?

1. Docket. EPA has established an official public docket for this action under docket identification (ID) number OPP-2005-0233. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the Federal Register listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although, not all docket materials may be available electronically, you may still access any of the publicly available docket materials through the docket facility identified in Unit I.B.1. Once in the system, select “search,” then key in the appropriate docket ID number.

II. Tentative Agenda

1. TPPC State of the Council Report.

2. Presentation and questions and answers with EPA Office of Pesticide Programs, Deputy Office Director.

3. Reports from working groups and TPPC participation in other meetings.

4. Tribal Caucus (2).

5. Reports from other organizations.

6. Invasive species/endangered species.

7. NAGPRA and Lifeline discussion.

8. Lindane (issue paper on lindane).

9. Report on Salt River Pima Maricopa Indian Community Pesticide Program.

10. OPP Tribal Strategy - final review.

11. TPPC outreach power point.

12. Federal Credential (questions and answers).

13. Presentation and questions and answers by EPA Office of Enforcement and Compliance Assurance.

14. Section 18 and 24c pilot project - soybean rust.

15. Instructions on preparing forms to include the Form 5700.

16. Region 8 and 9 reports.

17. Performance Measures - panel/reports from working groups and discussion of performance for Tribes.

18. Strategic planning for the TPPC Environmental Protection.

List of Subjects

Environmental protection, Pesticide and pests.

Dated: August 10, 2005.
Jay S. Ellenberger,
Associate Division Director, Field and External Affairs Division, Office of Pesticide Programs.

[FR Doc. 05-17127 Filed 8-30-05; 8:45 am]

BILLING CODE 6560-50-S